DEPARTMENT OF ENERGY

Federal Energy Regulatory Commission

Combined Notice of Filings #1

Friday, November 18, 2005.

Take notice that the Commission received the following electric rate filings:

Docket Numbers: ER05-1325-001; ER05-1319-001; ER05-1324-001.

Applicants: Southern California Edison Company; Pacific Gas & Electric Company; San Diego Gas & Electric Company.

Description: Southern California Edison Co. submits a compliance filing for the wholesale distribution access tariff small generation interconnection procedures & small generation interconnection agreement.

Filed Date: 11/10/2005.

Accession Number: 20051117-0081.

Comment Date: 5 p.m. Eastern Time on Thursday, December 01, 2005.

Docket Numbers: ER05-1491-001.

Applicants: Vermont Yankee Nuclear Power Corporation.

Description: Vermont Yankee Nuclear Power Corp submits an amendment to its 9/19/05 filing of a market-based sales tariff, designated as FERC Electric Tariff, Original Volume No. 1.

Filed Date: 11/10/2005.

Accession Number: 20051116-0187.

Comment Date: 5 p.m. Eastern Time on Thursday, December 01, 2005.

Docket Numbers: ER05-1497-001.

Applicants: Dearborn Industrial Generation, L.L.C.

Description: Dearborn Industrial Generation, L.L.C's submits revised FERC Electric Tariff Volume No. 1, First Revised Sheet No. 18.

Filed Date: 11/02/2005.

Accession Number: 20051102-5049.

Comment Date: 5 p.m. Eastern Time on Monday, November 28, 2005.

Docket Numbers: ER06-9-001.

Applicants: FPL Energy Burleigh County Wind, LLC.

Description: FPL Energy Burleigh County Wind, LLC's response to FERC Staff.

Filed Date: 11/10/2005.

Accession Number: 20051116-0188.

Comment Date: 5 p.m. Eastern Time on Thursday, December 01, 2005.

Docket Numbers: ER06-187-000.

Applicants: Midwest Independent Transmission System Operator, Inc.

Description: Midwest Independent Transmission Operator, Inc submits a Large Generation Interconnection Agreement among Valley View Transmission, LLC, the Midwest ISO, and Great River Energy.

Filed Date: 11/10/2005.

Accession Number: 20051114-0081.

Comment Date: 5 p.m. Eastern Time on Thursday, December 01, 2005.

Docket Numbers: ER06-188-000.

Applicants: Midwest Independent Transmission System Operator, Inc.

Description: Midwest Independent Transmission System Operator, Inc submits a revised Network Integration Service Agreement with the City of Eaton Rapids, MI.

Filed Date: 11/10/2005.

Accession Number: 20051114-0086.

Comment Date: 5 p.m. Eastern Time on Thursday, December 01, 2005.

Docket Numbers: ER06-191-000.

Applicants: ISO New England Inc.

Description: ISO New England Inc et al. jointly submits its Order 2006 compliance filing for New England's Standardization of Small Generator Interconnection Agreements & Procedures.

Filed Date: 11/10/2005.

Accession Number: 20051115-0034.

Comment Date: 5 p.m. Eastern Time on Thursday, December 01, 2005.

Docket Numbers: ER06-192-000.

Applicants: Midwest Independent Transmission System Operator, Inc.

Description: Midwest Independent Transmission System Operator, Inc submits proposed revisions to their Open Access Transmission and Energy Markets Tariff, FERC Electric Tariff, Third Revised Volume No. 1.

Filed Date: 11/10/2005.

Accession Number: 20051115-0103.

Comment Date: 5 p.m. Eastern Time on Thursday, December 01, 2005.

Docket Numbers: ER06-193-000.

Applicants: ISO New England Inc.

Description: ISO New England Inc. et al. submits transmittal letter and proposed improvements to Schedule 22 of the ISO OATT pursuant to section 205 of the Federal Power Act and Part 35 of FERC's Regulations.

Filed Date: 11/10/2005.

Accession Number: 20051115-0008.

Comment Date: 5 p.m. Eastern Time on Thursday, December 01, 2005.

Docket Numbers: ER06-194-000.

Applicants: Midwest Independent Transmission System Operator, Inc.

Description: Midwest Independent Transmission System Operator, Inc submits an unexecuted Large Generator Interconnection Agreement among Wisconsin Electric Co. et al.

Filed Date: 11/10/2005.

Accession Number: 20051115-0004.

Comment Date: 5 p.m. Eastern Time on Thursday, December 01, 2005.

Docket Numbers: ER06-195-000.

Applicants: K Road BG Management LLC.

Description: K Road BG Management, LLC's request Commission approval of the market-based rate authorization and request for certain waivers and blanket authorization.

Filed Date: 11/10/2005.

Accession Number: 20051115-0005.

Comment Date: 5 p.m. Eastern Time on Thursday, December 01, 2005.

Docket Numbers: ER06-196-000.

Applicants: Cantor Fitzgerald Brokerage, L.P.

Description: Cantor Fitzgerald Brokerage, LP submits its proposed market-based rate schedule FERC Electric Rate Schedule No. 1.

Filed Date: 11/10/2005.

Accession Number: 20051115-0006.

Comment Date: 5 p.m. Eastern Time on Thursday, December 01, 2005.

Docket Numbers: ER06-197-000.

Applicants: Cabrillo Power I LLC.

Description: Cabrillo Power I LLC et al. submit revisions to the Reliability Must-Run Service Agreements with the California Independent System Operator Corp.

Filed Date: 11/10/2005.

Accession Number: 20051115-0009.

Comment Date: 5 p.m. Eastern Time on Thursday, December 1, 2005.

Docket Numbers: ER06-198-000.

Applicants: Virginia Electric and Power Company.

Description: Virginia Electric & Power Co. dba Dominion Virginia Power submits a revised unexecuted Mutual Operating Agreement, First Revised Service Agreement No. 1301 with North Carolina Electric Membership Corp.

Filed Date: 11/10/2005.

Accession Number: 20051115-0001.

Comment Date: 5 p.m. Eastern Time on Thursday, December 1, 2005.

Docket Numbers: ER06-199-000.

Applicants: PJM Interconnection, L.L.C.

Description: PJM Interconnection LLC submits revisions to the PJM Open Access Transmission Tariff to comply with FERC's Final Rule in RM02-12-000.

Filed Date: 11/10/2005.

Accession Number: 20051115-0003.

Comment Date: 5 p.m. Eastern Time on Thursday, December 1, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E5-6488 Filed 11-23-05; 8:45 am]

BILLING CODE 6717-01-P